DEPARTMENT OF DEFENSE

GENERAL SERVICES ADMINISTRATION

NATIONAL AERONAUTICS AND SPACE ADMINISTRATION

48 CFR Ch. 1

Semiannual Regulatory Agenda

AGENCIES: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process. The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking Web site at http://www.acquisition.gov.

FOR FURTHER INFORMATION CONTACT: Hada Flowers, Director, Regulatory Secretariat Division, 1800 F Street, NW., 2nd Floor, Washington, DC 20405-0001, 202-501-4755.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR Web site at http://www.acquisition.gov/far.

Dated: September 19, 2014.
Jeffrey A. Koses,
Senior Procurement Executive/Deputy CAO, Office of Acquisition Policy, U.S. General Services Administration

DOD/GSA/NASA (FAR)—Proposed Rule Stage
Sequence No. | Title | Regulation Identifier No.
419 | Federal Acquisition Regulation (FAR); FAR Case 2013-020, Information on Corporate Contractor Performance and Integrity | 9000-AM74
420 | Federal Acquisition Regulation (FAR); FAR Case 2014-022, Inflation Adjustment of Acquisition—Related Thresholds | 9000-AM80
421 | Federal Acquisition Regulation (FAR); FAR Case 2014-025, Fair Pay and Safe Workplaces | 9000-AM81

DOD/GSA/NASA (FAR)—Final Rule Stage
Sequence No. | Title | Regulation Identifier No.
422 | Federal Acquisition Regulation (FAR); FAR Case 2011-001; Organizational Conflicts of Interest | 9000-AL82
423 | Federal Acquisition Regulation (FAR); FAR Case 2010-013, Privacy Training | 9000-AM02
424 | Federal Acquisition Regulation (FAR); FAR Case 2011-020; Basic Safeguarding of Contractor Information Systems | 9000-AM19
425 | Federal Acquisition Regulation (FAR); FAR Case 2013-001, Ending Trafficking in Persons | 9000-AM55
426 | Federal Acquisition Regulation (FAR); FAR Case 2013-015, Pilot Program for Enhancement of Contractor Employee Whistleblower Protections | 9000-AM56
427 | Federal Acquisition Regulation (FAR); FAR Case 2012-032, Higher-Level Contract Quality Requirements | 9000-AM65
428 | Federal Acquisition Regulation (FAR); FAR Case 2012-022, Contracts Under the Small Business Administration 8(a) Program | 9000-AM68
429 | Federal Acquisition Regulation (FAR); FAR Case 2013-022, Extension of Limitations on Contractor Employee Personal Conflicts of Interest | 9000-AM69
430 | Federal Acquisition Regulation (FAR); FAR Case 2013-016; EPEAT Items | 9000-AM71
431 | Federal Acquisition Regulation (FAR); FAR Case 2014-006; Year Format | 9000-AM72
432 | Federal Acquisition Regulation (FAR); FAR Case 2014-012, Limitation on Allowable Government Contractor Compensation Costs | 9000-AM75
433 | Federal Acquisition Regulation (FAR); FAR Case 2014-001; Incorporating Section K in Contracts | 9000-AM78
434 | Federal Acquisition Regulation (FAR); FAR Case 2015-003; Establishing a Minimum Wage for Contractors | 9000-AM82

DOD/GSA/NASA (FAR)—Completed Actions
Sequence No. | Title | Regulation Identifier No.
435 | Federal Acquisition Regulation (FAR); FAR Case 2009-016; Federal Contracting Programs for Minority-Owned and Other Small Businesses | 9000-AM05
436 | Federal Acquisition Regulation (FAR); FAR Case 2012-028; Contractor Comment Period—Past Performance Evaluations | 9000-AM40
437 | Federal Acquisition Regulation (FAR); FAR Case 2012-014; Small Business Protests and Appeals | 9000-AM46
438 | Federal Acquisition Regulation (FAR); FAR Case 2012-024; Commercial and Government Entity Code | 9000-AM49
439 | Federal Acquisition Regulation (FAR); FAR Case 2012-016; Defense Base Act | 9000-AM50
440 | Federal Acquisition Regulation (FAR); FAR Case 2011-023, Irrevocable Letters of Credit | 9000-AM53
441 | Federal Acquisition Regulation (FAR); FAR Case 2013-010, Contracting With Women-Owned Small Businesses | 9000-AM59
442 | Federal Acquisition Regulation (FAR); FAR Case 2012-023, Uniform Procurement Identification | 9000-AM60
443 | Federal Acquisition Regulation (FAR); FAR Case 2013-017, Allowability of Legal Costs for Whistleblower Proceedings | 9000-AM64

DEPARTMENT OF DEFENSE/GENERAL SERVICES ADMINISTRATION/NATIONAL AERONAUTICS AND SPACE ADMINISTRATION (FAR)

Proposed Rule Stage

419. Federal Acquisition Regulation (FAR); FAR Case 2013-020, Information on Corporate Contractor Performance and Integrity

Legal Authority: 40 U.S.C. 121(c); 10 U.S.C. ch 137; 51 U.S.C. 20113

Abstract: DoD, GSA, and NASA are proposing to amend the Federal Acquisition Regulation to implement a section of the National Defense Authorization Act for Fiscal Year 2013 to include in the Federal Awardee Performance and Integrity Information System (FAPIIS), to the extent practicable, identification of any immediate owner or subsidiary, and all predecessors of an offeror that held a Federal contract or grant within the last three years. The objective is to provide a more comprehensive understanding of the performance and integrity of the corporation in awarding Federal contracts. This case is included in the FAR retrospective review of existing regulations under Executive Order 13563. Additional information is located in the FAR final plan (2014), available at https://www.acquisition.gov/.

Timetable:

Action | Date | FR Cite
NPRM | 11/00/14

Regulatory Flexibility Analysis Required: Yes.

Agency Contact: Cecelia Davis, Program Analyst, DOD/GSA/NASA (FAR), 1800 F Street NW., Washington, DC 20405, Phone: 202 219-0202, Email: cecelia.davis@gsa.gov.

RIN: 9000-AM74

420. • Federal Acquisition Regulation (FAR); FAR Case 2014-22, Inflation Adjustment Of Acquuisition—Related Thresholds

Legal Authority: 40 U.S.C. 121(c); 10 U.S.C. ch 137; 51 U.S.C. 20113

Abstract: DoD, GSA, and NASA are proposing to amend the Federal Acquisition Regulation (FAR) to further implement 41 U.S.C. 1908, Inflation adjustment of acquisition-related dollar thresholds. This statute requires an adjustment every five years of acquisition-related thresholds for inflation using the Consumer Price Index for all urban consumers, except for the Construction Wage Rate Requirements statute (Davis-Bacon Act), Service Contract Labor Standards statute, and trade agreements thresholds. DoD, GSA, and NASA are also proposing to use the same methodology to adjust nonstatutory FAR acquisition-related thresholds in 2015.

Timetable:

Action | Date | FR Cite
NPRM | 11/00/14

Regulatory Flexibility Analysis Required: Yes.

Agency Contact: Michael O Jackson, Procurement Analyst, DOD/GSA/NASA (FAR), 1800 F Street NW., Washington, DC 20405, Phone: 202 208-4949, Email: michaelo.jackson@gsa.gov.

RIN: 9000-AM80

421. • Federal Acquisition Regulation (FAR); FAR Case 2014-025, Fair Pay and Safe Workplaces

Legal Authority: 40 U.S.C. 121(c); 10 U.S.C. ch 137; 51 U.S.C. 20113

Abstract: DoD, GSA, and NASA are issuing a proposed rule amending the Federal Acquisition Regulation (FAR) which implements Executive Order 13673, Fair Pay and Safe Workplaces, seeks to increase efficiency in the work performed by Federal contractors by ensuring that they understand and comply with labor laws designed to promote safe, healthy, fair and effective workplaces

Timetable:

Action | Date | FR Cite
NPRM | 01/00/15

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM81

DEPARTMENT OF DEFENSE/GENERAL SERVICES ADMINISTRATION/NATIONAL AERONAUTICS AND SPACE ADMINISTRATION (FAR)

Final Rule Stage

422. Federal Acquisition Regulation (FAR); FAR Case 2011-001; Organizational Conflicts of Interest

Legal Authority: 40 U.S.C. 121(c); 10 U.S.C. ch 137; 51 U.S.C. 20113

Abstract: DoD, GSA, and NASA are amending the Federal Acquisition Regulation (FAR) to provide revised regulatory coverage on organizational conflicts of interest (OCIs), and add related provisions and clauses. Coverage on contractor access to protected information has been moved to a new proposed rule, FAR Case 2012-029 now folded into FAR Case 2014-021. Section 841 of the Duncan Hunter National Defense Authorization Act for Fiscal Year 2009 (Pub. L. 110-417) required a review of the FAR coverage on OCIs. The proposed rule was developed as a result of a review conducted in accordance with section 841 by the Civilian Agency Acquisition Council, the Defense Acquisition Regulations Council, and the Office of Federal Procurement Policy, in consultation with the Office of Government Ethics. The proposed rule was preceded by an Advance Notice of Proposed Rulemaking, under FAR Case 2007-018 (73 FR 15962), to gather comments from the public with regard to whether and how to improve the FAR coverage on OCIs. This case is included in the FAR retrospective review of existing regulations under Executive Order 13563. Additional information is located in the FAR final plan (2014), available at: https://www.acquisition.gov/.

Timetable:

Action | Date | FR Cite
NPRM | 04/26/11 | 76 FR 23236
NPRM Comment Period End | 06/27/11
NPRM Comment Period Extended | 06/29/11 | 76 FR 38089
Comment Period End | 07/27/11
Final Rule | 05/00/15

Regulatory Flexibility Analysis Required: Yes.

Agency Contact: Deborah Erwin, Attorney-Advisor in the Office of Governmentwide Policy, DOD/GSA/NASA (FAR), 1800 F Street NW., Washington, DC 20405, Phone: 202 501-2164, Email: deborah.erwin@gsa.gov.

RIN: 9000-AL82

423. Federal Acquisition Regulation (FAR); FAR Case 2010-013, Privacy Training

Legal Authority: 40 U.S.C. 121(c); 10 U.S.C. ch 137; 51 U.S.C. 20113

Abstract: DoD, GSA, and NASA are proposing to amend the Federal Acquisition Regulation (FAR) to ensure that all contractors are required to complete training in the protection of privacy and the handling and safeguarding of Personally Identifiable Information (PII). The proposed FAR language provides flexibility for agencies to conduct the privacy training or require the contractor to conduct the privacy training.

Timetable:

Action | Date | FR Cite
NPRM | 10/14/11 | 76 FR 63896
NPRM Comment Period End | 12/13/11
Final Rule | 01/00/15

Regulatory Flexibility Analysis Required: Yes.

Agency Contact: Karlos Morgan, Procurement Analyst, DOD/GSA/NASA (FAR), 1800 F Street NW., Washington, DC 20405, Phone: 202 501-2364, Email: karlos.morgan@gsa.gov.

RIN: 9000-AM02.

424. Federal Acquisition Regulation (FAR); FAR Case 2011-020; Basic Safeguarding of Contractor Information Systems

Legal Authority: 40 U.S.C. 121(c); 10 U.S.C. ch 137; 51 U.S.C. 20113

Abstract: DoD, GSA, and NASA are proposing to amend the Federal Acquisition Regulation to add a new subpart and contract clause for the safeguarding of contractor information systems that contain information provided by the Government (other than public information) or generated for the Government that will be resident on or transiting through contractor information systems.

Timetable:

Action | Date | FR Cite
NPRM | 07/26/12 | 77 FR 51496
NPRM Comment Period End | 10/23/12
Final Rule | 03/00/15.

Regulatory Flexibility Analysis Required: Yes

Agency Contact: Marissa Petrusek, Procurement Analyst, DOD/GSA/NASA (FAR), 1800 F Street NW., Washington, DC 20405, Phone: 202 501-0136, Email: marissa.petrusek@gsa.gov

RIN: 9000-AM19

425. Federal Acquisition Regulation (FAR); FAR Case 2013-001, Ending Trafficking In Persons

Legal Authority: 40 U.S.C. 121(c); 10 U.S.C. ch 137; 51 U.S.C. 20113

Abstract: DoD, GSA, and NASA are issuing a final rule amending the Federal Acquisition Regulation to strengthen protections against trafficking in persons in Federal contracts. These changes are intended to implement Executive Order 13627, entitled “Strengthening Protections Against Trafficking in Persons in Federal Contracts,” and title XVII of the National Defense Authorization Act for Fiscal Year 2013.

Timetable:

Action | Date | FR Cite
NPRM | 09/26/13 | 78 FR 59317
NPRM Comment Period End | 12/20/13
Final Rule | 11/00/14

Regulatory Flexibility Analysis Required: Yes.

Agency Contact: Marissa Petrusek, Procurement Analyst, DOD/GSA/NASA (FAR), 1800 F Street NW., Washington, DC 20405, Phone: 202 501-0136, Email: marissa.petrusek@gsa.gov.

RIN: 9000-AM55

426. Federal Acquisition Regulation (FAR); Far Case 2013-015, Pilot Program for Enhancement of Contractor Employee Whistleblower Protections

Legal Authority: 40 U.S.C. 121(c); 10 U.S.C. ch 137; 51 U.S.C. 20113

Abstract: DoD, GSA, and NASA issued an interim rule amending the Federal Acquisition Regulation to implement a statutory pilot program enhancing whistleblower protections for contractor employees.

Timetable:

Action | Date | FR Cite
Interim Final Rule | 09/30/13 | 78 FR 60169
Interim Final Rule Comment Period End | 11/29/13
Final Rule | 11/00/14

Regulatory Flexibility Analysis Required: Yes.

Agency Contact: Cecelia Davis, Program Analyst, DOD/GSA/NASA (FAR), 1800 F Street NW., Washington, DC 20405, Phone: 202 219-0202, Email: cecelia.davis@gsa.gov.

RIN: 9000-AM56

427. Federal Acquisition Regulation (FAR); FAR Case 2012-032, Higher-Level Contract Quality Requirements

Legal Authority: 40 U.S.C. 121(c); 10 U.S.C. ch 137; 51 U.S.C. 20113

Abstract: DoD, GSA, and NASA issued a proposed rule to amend the Federal Acquisition Regulation to clarify when to use higher-level quality standards in solicitations and contracts, and to update the examples of higher-level quality standards by revising obsolete standards and adding two new industry standards that pertain to quality assurance for avoidance of counterfeit items. These standards will be used to help minimize and mitigate counterfeit items or suspect counterfeit items in Government contracting.

Timetable:

Action | Date | FR Cite
NPRM | 12/03/13 | 78 FR 72620
NPRM Comment Period End | 02/03/14
Final Rule | 11/00/14

Regulatory Flexibility Analysis Required: Yes.

Agency Contact: Marissa Petrusek, Procurement Analyst, DOD/GSA/NASA (FAR), 1800 F Street NW., Washington, DC 20405, Phone: 202 501-0136, Email: marissa.petrusek@gsa.gov.

RIN: 9000-AM65

428. Federal Acquisition Regulation (FAR); FAR Case 2012-022, Contracts Under The Small Business Administration 8(A) Program

Legal Authority: 40 U.S.C. 121(c); 10 U.S.C. ch 137; 51 U.S.C. 20113

Abstract: DoD, GSA, and NASA issued a proposed rule to amend the Federal Acquisition Regulation (FAR) to implement revisions made by the Small Business Administration to its regulations implementing section 8(a) of the Small Business Act, and to provide additional FAR coverage regarding protesting an 8(a) participant's eligibility or size status, procedures for releasing a requirement for non-8(a) procurements, and the ways a participant could exit the 8(a) Business Development program.

Timetable:

Action | Date | FR Cite
NPRM | 02/03/14 | 79 FR 6135
NPRM Comment Period End | 04/14/14
Final Rule | 02/00/15

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM68.

429. Federal Acquisition Regulation (FAR); FAR Case 2013-022, Extension of Limitations on Contractor Employee Personal Conflicts of Interest

Legal Authority: 40 U.S.C. 121(c); 10 U.S.C. ch 137; 51 U.S.C. 20113

Abstract: DoD, GSA, and NASA issued a proposed rule to amend the Federal Acquisition Regulation to implement a section of the National Defense Authorization Act (NDAA) for Fiscal Year 2013 to extend the limitations on contractor employee personal conflicts of interest to apply to the performance of all functions that are closely associated with inherently governmental functions and contracts for personal services.

Timetable:

Action | Date | FR Cite
NPRM | 04/02/14 | 79 FR 18503
NPRM Comment Period End | 06/02/14
Final Rule | 11/00/14

Regulatory Flexibility Analysis Required: Yes.

Agency Contact: Cecelia Davis, Program Analyst, DOD/GSA/NASA (FAR), 1800 F Street NW., Washington, DC 20405, Phone: 202 219-0202, Email: cecelia.davis@gsa.gov.

RIN: 9000-AM69

430. • Federal Acquisition Regulation (FAR); FAR Case 2013-016; EPEAT Items

Legal Authority: 40 U.S.C. 121(c); 10 U.S.C. ch 137; 51 U.S.C. 20113

Abstract: DoD, GSA, and NASA issued an interim rule amending the Federal Acquisition Regulation to implement changes in the Electronic Product Environmental Assessment Tool (EPEAT®) registry.

Timetable:

Action | Date | FR Cite
Interim Final Rule | 06/24/14 | 79 FR 35859
Interim Final Rule Comment Period End | 08/25/14
Final Rule | 01/00/15

Regulatory Flexibility Analysis Required: Yes.

Agency Contact: Marissa Petrusek, Procurement Analyst, DOD/GSA/NASA (FAR), 1800 F Street NW., Washington, DC 20405, Phone: 202 501-0136, Email: marissa.petrusek@gsa.gov.

RIN: 9000-AM71

431. • Federal Acquisition Regulation (FAR); FAR Case 2014-006; Year Format

Legal Authority: 40 U.S.C. 121(c); 10 U.S.C. ch 137; 51 U.S.C. 20113

Abstract: DoD, GSA, and NASA issued a proposed rule to amend the Federal Acquisition Regulation to delete regulations relating to the year 2000 compliance.

Timetable:

Action | Date | FR Cite
NPRM | 02/25/14 | 79 FR 16274
NPRM Comment Period End | 05/27/14
Final Rule | 11/00/14

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM72

432. Federal Acquisition Regulation (FAR); FAR Case 2014-012, Limitation on Allowable Government Contractor Compensation Costs

Legal Authority: 40 U.S.C. 121(c); 10 U.S.C. ch 137; 51 U.S.C. 20113

Abstract: DoD, GSA and NASA issued an interim rule amending the Federal Acquisition Regulation to implement Section 702 of the Bipartisan Budget Act of 2013. In accordance with Section 702, the interim rule revises the allowable cost limit relative to the compensation of contractor and subcontractor employees. Also, in accordance with section 702, this interim rule implements the possible exception to this allowable cost limit for narrowly targeted scientists, engineers, or other specialists upon an agency determination that such exceptions are needed to ensure that the executive agency has continued access to needed skills and capabilities.

Timetable:

Action | Date | FR Cite
Interim Final Rule | 06/24/14 | 79 FR 35865
Interim Final Rule Comment Period End | 08/25/14
Final Rule | 02/00/15

Regulatory Flexibility Analysis Required: Yes.

Agency Contact: Edward Chambers, Procurement Analyst, DOD/GSA/NASA (FAR), 1800 F Street NW., Washington, DC 20405, Phone: 202 501-3221, Email: edward.chambers@gsa.gov.

RIN: 9000-AM75

433. • Federal Acquisition Regulation (FAR); Far Case 2014-001; Incorporating Section K In Contracts

Legal Authority: 40 U.S.C. 121)c); 10 U.S.C. ch 137; 51 U.S.C. 20113

Abstract: DoD, GSA, and NASA issued a proposed rule to amend the Federal Acquisition Regulation to standardize the incorporation by reference of representations and certifications in contracts.

Timetable:

Action | Date | FR Cite
NPRM | 04/23/14 | 79 FR 22615
NPRM Comment Period End | 06/23/14
Final Rule | 11/00/14

Regulatory Flexibility Analysis Required: Yes.

Agency Contact: Curtis Glover, DOD/GSA/NASA (FAR), 1800 F Street NW., Washington, DC 20405, Phone: 202 501-1448, Email: curtis.glover@gsa.gov.

RIN: 9000-AM78

434.• Federal Acquisition Regulation (FAR); FAR Case 2015-003; Establishing a Minimum Wage for Contractors

Legal Authority: 40 U.S.C. 121(c); 10 U.S.C. ch 137; 51 U.S.C. 20113

Abstract: DoD, GSA, and NASA are issuing an interim rule amending the Federal Acquisition Regulation (FAR) to implement Executive Order (E.O.) 13658, Establishing a Minimum Wage for Contractors, and a final rule issued by the Department of Labor (DOL) at 29 CFR part 10.

Timetable:

Action | Date | FR Cite
Interim Final Rule | 12/00/14

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM82

DEPARTMENT OF DEFENSE/GENERAL SERVICES ADMINISTRATION/NATIONAL AERONAUTICS AND SPACE ADMINISTRATION (FAR)

Completed Actions

435. Federal Acquisition Regulation (FAR); FAR Case 2009-016; Federal Contracting Programs for Minority-Owned and Other Small Businesses

Legal Authority: 40 U.S.C. 121(c); 10 U.S.C. ch 137; 51 U.S.C. 20113

Abstract: DoD, GSA, and NASA are issuing a final rule amending the Federal Acquisition Regulation (FAR) to remove certain coverage involving procurements with small disadvantaged business concerns and certain institutions of higher education that is based on authority which has expired and been found to be unconstitutional by the Court of Appeals for the Federal Circuit in Rothe Development Corporation vs. the DoD and the U.S. Department of Defense. These changes harmonize the FAR with current statutory authorities.

Completed:

Reason | Date | FR Cite
Final Rule | 10/14/14 | 79 FR 61746
Final Rule Effective | 10/14/14

Regulatory Flexibility Analysis Required: Yes.

Agency Contact: Mahruba Uddowla, Phone: 703 605-2868, Email: mahruba.uddowla@gsa.gov.

RIN: 9000-AM05

436. Federal Acquisition Regulation (FAR); FAR Case 2012-028; Contractor Comment Period—Past Performance Evaluations

Legal Authority: 40 U.S.C. 121(c); 10 U.S.C. ch 137; 51 U.S.C. 20113

Abstract: DoD, GSA, and NASA issued a final rule to revise the Federal Acquisition Regulation to implement section 853 of the National Defense Authorization Act (NDAA) for Fiscal Year (FY) 2013 (Pub. L. 112-239, enacted January 2, 2013) and section 806 of the NDAA for FY 2012 (Pub. L. 112-81, enacted December 31, 2011, 10 U.S.C. 2302 Note). Section 853, entitled “Inclusion of Data on Contractor Performance in Past Performance Databases for Executive Agency Source Selection Decisions,” and section 806, entitled “Inclusion of Data on Contractor Performance in Past Performance Databases for Source Selection Decisions,” require revisions to the acquisition regulations on past performance evaluations so that contractors are provided “up to 14 calendar days . . . from the date of delivery” of past performance evaluations “to submit comments, rebuttals, or additional information pertaining to past performance” for inclusion in the database. In addition, paragraph (c) of both sections 853 and 806 requires that agency evaluations of contractor performance, including any information submitted by contractors, be “included in the relevant past performance database not later than the date that is 14 days after the date of delivery of the information” (section 853(c)) to the contractor. The Governmentwide application of the statute will ensure that the Government has current performance information about contractors to help source selection officials make better award decisions. This case is included in the FAR retrospective review of existing regulations under Executive Order 13563. Additional information is located in the FAR final plan (2014), available at: https://www.acquisition.gov/.

Completed:

Reason | Date | FR Cite
Final Rule | 05/30/14 | 79 FR 31197
Final Rule Effective | 07/01/14

Regulatory Flexibility Analysis Required: Yes.

Agency Contact: Curtis Glover, Phone: 202 501-1448, Email: curtis.glover@gsa.gov.

RIN: 9000-AM40

437. Federal Acquisition Regulation (FAR); FAR Case 2012-014; Small Business Protests and Appeals

Legal Authority: 40 U.S.C. 121(c); 10 U.S.C. ch 137; 51 U.S.C. 20113

Abstract: DoD, GSA, and NASA amended the Federal Acquisition Regulation to implement the Small Business Administration's revision of the small business size and small business status protest and appeal procedures.

Completed:

Reason | Date | FR Cite
Final Rule | 07/25/14 | 79 FR 43580
Final Rule Effective | 08/25/14

Regulatory Flexibility Analysis Required: Yes.

Agency Contact: Mahruba Uddowla, Phone: 703 605-2868, Email: mahruba.uddowla@gsa.gov.

RIN: 9000-AM46

438. Federal Acquisition Regulation (FAR); FAR Case 2012-024; Commercial and Government Entity Code

Legal Authority: 40 U.S.C. 121(c); 10 U.S.C. ch 137; 51 U.S.C. 20113

Abstract: DoD, GSA, and NASA issued a final rule to amend the Federal Acquisition Regulation (FAR) to require the use of Commercial and Government Entity (CAGE) codes, including North Atlantic Treaty Organization (NATO) CAGE (NCAGE) codes for foreign entities, for awards valued at greater than the micro-purchase threshold. The CAGE code is a five-character alpha-numeric identifier used extensively within the Federal Government. The rule will also require offerors, if owned by another entity, to identify that entity.

Completed:

Reason | Date | FR Cite
Final Rule | 05/30/14 | 79 FR 31187
Final Rule Effective | 11/01/14

Regulatory Flexibility Analysis Required: Yes.

Agency Contact: Edward Loeb, Phone: 202 501-0650, Email: edward.loeb@gsa.gov.

RIN: 9000-AM49

439. Federal Acquisition Regulation (FAR); FAR Case 2012-016; Defense Base Act

Legal Authority: 40 U.S.C. 121(c); 10 U.S.C. ch 137; 51 U.S.C. 20113

Abstract: DoD, GSA, and NASA issued a final rule amending the Federal Acquisition Regulation to clarify contractor and subcontractor responsibilities to obtain workers' compensation insurance or to qualify as a self-insurer, and other requirements, under the terms of the Longshore and Harbor Workers' Compensation Act (LHWCA) as extended by the Defense Base Act (DBA).

Completed:

Reason | Date | FR Cite
Final Rule | 05/30/14 | 79 FR 31201
Final Rule Effective | 07/01/14

Regulatory Flexibility Analysis Required: Yes.

Agency Contact: Edward Chambers, Phone: 202 501-3221, Email: edward.chambers@gsa.gov.

RIN: 9000-AM50

440. Federal Acquisition Regulation (FAR); FAR Case 2011-023, Irrevocable Letters of Credit

Legal Authority: 40 U.S.C. 121(c); 10 U.S.C. ch 137; 51 U.S.C. 20113

Abstract: DoD, GSA, and NASA issued a proposed rule to amend the Federal Acquisition Regulation to remove all references to Office of Federal Procurement Policy Pamphlet No. 7, Use of Irrevocable Letters of Credit, and also provide updated sources of data required to verify the credit worthiness of a financial entity issuing or confirming an irrevocable letter of credit.

Completed:

Reason | Date | FR Cite
Final Rule | 10/14/14 | 79 FR 61743
Final Rule Effective | 11/13/14

Regulatory Flexibility Analysis Required: Yes.

Agency Contact: Cecelia Davis, Phone: 202 219-0202, Email: cecelia.davis@gsa.gov.

RIN: 9000-AM53

441. Federal Acquisition Regulation (FAR); FAR Case 2013-010, Contracting With Women-Owned Small Businesses

Legal Authority: 40 U.S.C. 121(c); 10 U.S.C. ch 137; 51 U.S.C. 20113

Abstract: DoD, GSA, and NASA have adopted as final, without change, an interim rule amending the Federal Acquisition Regulation to remove the dollar limitation for set-asides to economically disadvantaged women-owned small business concerns and to women-owned small business concerns eligible under the Women-Owned Small Business Program.

Completed:

Reason | Date | FR Cite
Final Rule | 06/24/14 | 79 FR 35864
Final Rule Effective | 06/24/14

Regulatory Flexibility Analysis Required: Yes.

Agency Contact: Mahruba Uddowla, Phone: 703 605-2868, Email: mahruba.uddowla@gsa.gov.

RIN: 9000-AM59

442. Federal Acquisition Regulation (FAR); FAR Case 2012-023, Uniform Procurement Identification

Legal Authority: 40 U.S.C. 121(c); 10 U.S.C. ch 137; 51 U.S.C. 20113

Abstract: DoD, GSA, and NASA issued a proposed rule to amend the Federal Acquisition Regulation (FAR) to implement a uniform Procurement Instrument Identification numbering system, which will require the use of Activity Address Codes as the unique identifier for contracting offices and other offices, in order to standardize procurement transactions across the Federal Government. This proposed rule continues and strengthens efforts at standardization accomplished under a previous FAR case.

Completed:

Reason | Date | FR Cite
Final Rule | 10/14/14 | 79 FR 61739
Final Rule Effective | 11/13/14

Regulatory Flexibility Analysis Required: Yes.

Agency Contact: Edward Loeb, Phone: 202 501-0650, Email: edward.loeb@gsa.gov.

RIN: 9000-AM60

443. Federal Acquisition Regulation (FAR); FAR Case 2013-017, Allowability of Legal Costs for Whistleblower Proceedings

Legal Authority: 40 U.S.C. 121(c); 10 U.S.C. ch 137; 51 U.S.C. 20113

Abstract: DoD, GSA, and NASA have adopted as final, with changes, an interim rule amending the Federal Acquisition Regulation to implement a section of the National Defense Authorization Act (NDAA) for Fiscal Year 2013 that addresses the allowability of legal costs incurred by a contractor or subcontractor related to a whistleblower proceeding commenced by the submission of a complaint of reprisal by the contractor or subcontractor employee.

Completed:

Reason | Date | FR Cite
Final Rule | 07/25/14 | 79 FR 43589
Final Rule Effective | 07/25/14

Regulatory Flexibility Analysis Required: Yes.

Agency Contact: Edward Chambers, Phone: 202 501-3221, Email: edward.chambers@gsa.gov.

RIN: 9000-AM64

[FR Doc. 2014-28984 Filed 12-19-14; 8:45 am]

BILLING CODE 6820-EP-P